NUCLEAR REGULATORY COMMISSION

10 CFR Parts 170 and 171

[Docket No. PRM-170-7; NRC-2018-0172]

Categorization of the Licensee Fee Category for Full-Cost Recovery

AGENCY: Nuclear Regulatory Commission.

ACTION: Petition for rulemaking; notice of docketing.

SUMMARY: The U.S. Nuclear Regulatory Commission (NRC) has received a petition for rulemaking (PRM) from Mr. Christopher S. Pugsley, Esq. (the petitioner), on behalf of Water Remediation Technology (WRT), LLC, dated July 3, 2018, requesting that the NRC amend its regulations regarding full-cost recovery of licensee fees. The petition was docketed by the NRC on August 2, 2018, and has been assigned Docket No. PRM-170-7. The NRC is examining the issues raised in PRM-170-7 to determine whether they should be considered in rulemaking. The NRC is not instituting a public comment period for this PRM as the staff anticipates considering the issues raised in the petition in the upcoming fiscal year 2019 proposed fee rule, and the public will have an opportunity to comment at that time.

DATES: The PRM is available on November 2, 2018.

ADDRESSES: Please refer to Docket ID NRC-2018-0172 when contacting the NRC about the availability of information for this petition. You may obtain publicly-available information related to this petition by any of the following methods:

• Federal Rulemaking Website: Go to http://www.regulations.gov and search for Docket ID NRC-2018-0172. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The petition, PRM-170-7, is available in ADAMS under Accession No. ML18214A757.

• NRC's PDR: You may examine and purchase copies of public documents at the NRC's PDR, Room O1-F21, One White Flint North, 11555 Rockville Pike, Rockville, Maryland 20852.

FOR FURTHER INFORMATION CONTACT: Renu Suri, Office of the Chief Financial Officer, U.S. Nuclear Regulatory Commission, Washington, DC 20555-0001; telephone: 301-415-0161, email: Renu.Suri@nrc.gov.

SUPPLEMENTARY INFORMATION:

I. The Petitioner

Mr. Christopher S. Pugsley, Esq. (the petitioner) submitted this petition on behalf of WRT, requesting that the NRC amend its regulations to re-categorize licensees performing water treatment services from a full-cost recovery category to a category with a fixed annual fee.

II. The Petition

The petitioner is requesting that the NRC revise parts 170 and 171 of title 10 of the Code of Federal Regulations (10 CFR) to re-categorize WRT as a licensee that does not require full-cost recovery for fees billed to it during the life of its license, address consistency issues between 10 CFR parts 170 and 171 for small entities, and extend the timeframe in which a request for a fee exemption must be submitted under § 170.11. The petitioner also requests that the rule change be actively considered in the NRC's fiscal year 2019 rulemaking for its fee regulations.

III. Discussion of the Petition

The petitioner requests that the NRC amend its regulations to re-categorize WRT as a licensee that does not require full-cost recovery for fees billed to it during the life of its license under 10 CFR part 170, address consistency issues between 10 CFR parts 170 and 171 for small entities, and consider this rule change during the FY 2019 revision of the fee rule. The petitioner assists small community water systems with compliance with the uranium drinking water standard: “WRT's license operations are not intended to process source material for its commercial value thereby reducing the financial benefit to the licensee as compared to uranium recovery facilities that process ores primarily for their source material content.” The petitioner suggests that the NRC should further ease the financial burden on community water systems so that they may comply with the uranium drinking water standard. The petitioner also notes NRC actions that seem to agree with his recommendation.

The petitioner also requests additional conforming and related changes. The petitioner asserts that the NRC should consider addressing consistency issues between 10 CFR parts 170 and 171 fees for uranium water treatment licensees that are recognized by the NRC as small entities. The petitioner also requested that the NRC consider amending language under § 170.11 to extend the time within which a licensee may appeal the assessment of fees and apply for a fee exemption. The petitioner notes that NRC could approve the petition as an alternative to revising the NRC's fee recovery requirements during the next revision of the annual fee rule.

IV. Conclusion

The NRC will examine the issues raised in PRM-170-7 to determine whether they should be considered in rulemaking.

Dated at Rockville, Maryland, this 29th day of October, 2018.
For the Nuclear Regulatory Commission.
Annette L. Vietti-Cook,
Secretary of the Commission.

[FR Doc. 2018-24002 Filed 11-1-18; 8:45 am]

BILLING CODE 7590-01-P